DEPARTMENT OF COMMERCE

International Trade Administration

[A-469-817, C-469-818]

Ripe Olives From Spain: Continuation of Antidumping and Countervailing Duty Orders; Correction

AGENCY: Enforcement and Compliance, International Trade Administration, Department of Commerce.

ACTION: Notice; Correction.

SUMMARY: The U.S. Department of Commerce (Commerce) published a notice in the Federal Register of August 9, 2024 in which Commerce issued the continuation of the antidumping duty (AD) order and countervailing duty (CVD) orders on ripe olives from Spain. This notice did not correctly state the applicable date.

FOR FURTHER INFORMATION CONTACT: Mary Kolberg, AD/CVD Operations, Office I Enforcement and Compliance, International Trade Administration, U.S. Department of Commerce, 1401 Constitution Avenue NW, Washington, DC 20230; telephone: (202) 482-1785.

SUPPLEMENTARY INFORMATION:

Background

On August 9, 2024, Commerce published in the Federal Register a notice of continuation of the AD and CVD orders on ripe olives from Spain.¹ In that notice, Commerce did not correctly state the applicable date. Specifically, the applicable date of the notice was based on the U.S. International Trade Commission's (ITC) determination notice which has since been withdrawn and republished.²

¹ See Ripe Olives from Spain: Continuation of Antidumping and Countervailing Duty Orders, 89 FR 65324 (August 9, 2024).

² See Ripe Olives from Spain; Withdrawal of Determinations, 89 FR 65397 (August 9, 2024); see also Ripe Olives from Spain, 89 FR 65397 (August 9, 2024).

Correction

In the Federal Register of August 9, 2024, in FR Doc. 2024-17659, on page 65324, in the second column, correct the DATES section from “Dates: Applicable July 31, 2024” to instead state “Dates: Applicable August 9, 2024.” In addition, on page 65324, in the third column, under the “Background” section, correct the sentence from “On July 31, 2024, the ITC published its determination, pursuant to sections 751(c) and 752(a) of the Act, that revocation of the Orders would likely lead to continuation or recurrence of material injury to an industry in the United States within a reasonably foreseeable time” ³ to instead state “On August 9, 2024, the ITC published its determination, pursuant to sections 751(c) and 752(a) of the Act, that revocation of the Orders would likely lead to continuation or recurrence of material injury to an industry in the United States within a reasonably foreseeable time.” ⁴ Finally, on page 65324, in the third column, under the “Continuation of the Orders” section, correct the sentence from “The effective date of the continuation of the Orders is July 31, 2024” to instead state “The effective date of the continuation of the Orders is August 9, 2024.”

³ See Ripe Olives from Spain, 89 FR 61497 (July 31, 2024).

⁴ See Ripe Olives from Spain, 89 FR 65397 (August 9, 2024).

Notification to Interested Parties

This notice is issued in accordance with sections 751(c) and 751(d)(2) of the Tariff Act of 1930, as amended, (the Act) and published in accordance with section 777(i) of the Act and 19 CFR 351.218(f)(4).

Dated: August 28, 2024.
Ryan Majerus,
Deputy Assistant Secretary for Policy and Negotiations, performing the non-exclusive functions and duties of the Assistant Secretary for Enforcement and Compliance.

[FR Doc. 2024-19943 Filed 9-4-24; 8:45 am]

BILLING CODE 3510-DS-P